DEPARTMENT OF LABOR

Employment and Training Administration

[TA-W-50,835]

Reliant Fastener, Rock Falls, IL; Notice of Termination of Investigation

Pursuant to section 221 of the Trade Act of 1974, an investigation was initiated on February 10, 2003, in response to a worker petition filed by the United Steelworkers of America, Local 63 Unit 01, on behalf of workers at Reliant Fastener, Rock Falls, Illinois.

The petitioning group of workers is covered by an active amended certification issued on February 5, 2003, and which remains in effect (TA-W-50,001A). Consequently, further investigation in this case would serve no purpose, and the investigation has been terminated.

Signed in Washington, DC, this 7th day of April 2003.
Richard Church,
Certifying Officer, Division of Trade Adjustment Assistance.

[FR Doc. 03-10356 Filed 4-25-03; 8:45 am]

BILLING CODE 4510-30-P